DEPARTMENT OF ENERGY

Notice of Solicitation of Nominations for Appointment as a Member of the Biomass Research and Development Technical Advisory Committee

AGENCY: Department of Energy.

ACTION: Notice of solicitation of members.

SUMMARY: In accordance with the Federal Advisory Committee Act, 5 U.S.C. app. 2, the U.S. Department of Energy is soliciting nominations for candidates to fill vacancies on the Biomass Research and Development Technical Advisory Committee.

DATES: Deadline for Technical Advisory Committee member nominations is July 30, 2010.

ADDRESSES: The nominee's name, resume, biography, and any letters of support must be submitted via one of the following methods:

1. E-mail to laura.mccann@ee.doe.gov or christina.fagerholm@ee.doe.gov.

2. Facsimile to 202-586-1640, Attn: Laura McCann.

3. Overnight delivery service to the Designated Federal Official for the Committee, Office of Energy Efficiency and Renewable Energy, U.S. Department of Energy, Mail Stop EE-2E, 1000 Independence Avenue, SW., Washington, DC 20585.

FOR FURTHER INFORMATION CONTACT: Laura McCann, Designated Federal Official for the Committee, Office of Energy Efficiency and Renewable Energy, U.S. Department of Energy, 1000 Independence Avenue, SW., Washington, DC 20585; (202) 586-7766; e-mail: laura.mccann@ee.doe.gov or Christina Fagerholm at (202) 586-2933; e-mail: christina.fagerholm@ee.doe.gov.

SUPPLEMENTARY INFORMATION: The Biomass Research and Development Act of 2000 (Biomass Act) [Pub. L. 106-224] requires cooperation and coordination in biomass research and development (R&D) between the U.S. Department of Agriculture (USDA) and U.S. Department of Energy (DOE). The Biomass Act was repealed in June 2008 by section 9001 of the Food, Conservation and Energy Act of 2008 (FCEA) [Pub. L. 110-246, 122 Stat. 1651, enacted June 18, 2008, H.R. 6124].

FCEA section 9008(d) establishes the Biomass Research and Development Technical Advisory Committee (Committee) and lays forth its meetings, coordination, duties, terms and membership types. The Committee must meet quarterly and should not duplicate the efforts of other Federal advisory committees. The Committee advises the DOE and USDA points of contact with respect to the Biomass R&D Initiative (Initiative) and also makes written recommendations to the Biomass R&D Board (Board). Those recommendations regard whether: (A) Initiative funds are distributed and used consistent with Initiative objectives; (B) solicitations are open and competitive with awards made annually; (C) objectives and evaluation criteria of the solicitations are clear; and (D) the points of contact are funding proposals selected on the basis of merit, as determined by an independent panel of qualified peers.

The Committee members may serve up to two, three year terms and must include: (A) An individual affiliated with the biofuels industry; (B) an individual affiliated with the biobased industrial and commercial products industry; (C) an individual affiliated with an institution of higher education who has expertise in biofuels and biobased products; (D) 2 prominent engineers or scientists from government or academia who have expertise in biofuels and biobased products; (E) an individual affiliated with a commodity trade association; (F) 2 individuals affiliated with environmental or conservation organizations; (G) an individual associated with State government who has expertise in biofuels and biobased products; (H) an individual with expertise in energy and environmental analysis; (I) an individual with expertise in the economics of biofuels and biobased products; (J) an individual with expertise in agricultural economics; (K) an individual with expertise in plant biology and biomass feedstock development; (L) an individual with expertise in agronomy, crop science, or soil science; and (M) at the option of the points of contact, other members (REF: FCEA 2008 section 9008(d)(2)(A)). All nominees will be carefully reviewed for their expertise, leadership, and relevance to an expertise. Appointments will be made for three-year terms as dictated by the legislation.

Nominations this year are being accepted only for the following categories in order to address the Committee's needs: (C) An individual affiliated with an institution of higher education who has expertise in biofuels and biobased products; (D) 2 prominent engineers or scientists from government or academia who have expertise in biofuels and biobased products; (H) an individual with expertise in energy and environmental analysis; and (M) at the option of the points of contact, other members.

Nominations are solicited from organizations, associations, societies, councils, federations, groups, universities and companies that represent a wide variety of biomass research and development interests throughout the country. Nominations for one individual who fits several of the categories listed above or for more than one person who fits one category will be accepted. In your nomination letter, please indicate the specific membership category for each nominee. Each nominee must submit their resume and biography along with any letters of support by the deadline above. All nominees will be vetted before selection.

Nominations are open to all individuals without regard to race, color, religion, sex, national origin, age, mental or physical handicap, marital status, or sexual orientation. To ensure that recommendations of the Technical Advisory Committee take into account the needs of the diverse groups served by the Department, membership shall include, to the extent practicable, individuals with demonstrated ability to represent minorities, women, and persons with disabilities. Please note, however, that registered lobbyists and individuals already serving on another Federal Advisory Committee are ineligible for nomination.

Appointments to the Biomass Research and Development Technical Advisory Committee will be made by the Secretary of Energy and the Secretary of Agriculture.

Issued at Washington, DC, on July 12, 2010.
Rachel Samuel,
Deputy Committee Management Officer.

[FR Doc. 2010-17285 Filed 7-14-10; 8:45 am]

BILLING CODE 6450-01-P